DEPARTMENT OF TRANSPORTATION

Federal Aviation Administration

[Policy Statement Number PS-ACE100-2005-10038]

Policy on Bonded Joints and Structures—Technical Issues and Certification Considerations

AGENCY: Federal Aviation Administration, DOT.

ACTION: Notice of issuance of policy statement.

SUMMARY: This notice announces the issuance of a Federal Aviation Administration (FAA) policy for certification of bonded structures. This notice is necessary to advise the public, especially manufacturers of normal, and acrobatic category airplanes, and commuter category airplanes and their suppliers, that the FAA has adopted a policy on bonded joints and structures.

DATES: Policy statement PS-ACE100-2005-10038 was issued by the Manager of the Small Airplane Directorate on September 2, 2005.

How to Obtain Copies: A paper copy of policy statement may be obtained by writing to the following: Small Airplane Directorate, Standards Office (ACE-110), Aircraft Certification Service, Federal Aviation Administration, 901 Locust Street, Room 301, Kansas City, MO 64106. The policy statement will also be available on the Internet at the following address http://www.faa.gov/regulations_policies/.

FOR FURTHER INFORMATION CONTACT: Lester Cheng, Federal Aviation Administration, Small Airplane Directorate, Regulations & Policy, ACE-111, 901 Locust Street, Room 301, Kansas City, Missouri 64106; telephone: (316) 946-4111; fax: 816-4090; e-mail: lester.cheng@faa.gov.

SUPPLEMENTARY INFORMATION:

Background

We announced the availability of the policy statement on May 27, 2005 (70 FR 30829). We revised the policy in response to the comments, and the policy has been adopted.

Issued in Kansas City, Missouri on September 12, 2005.
James E. Jackson,
Acting Manager, Small Airplane Directorate, Aircraft Certification Service.

[FR Doc. 05-18504 Filed 9-16-05; 8:45am]

BILLING CODE 4910-13-M